ENVIRONMENTAL PROTECTION AGENCY

[FRL-7019-5]

B & H Transformer Superfund Site; Notice of proposed settlement

AGENCY: Environmental Protection Agency.

ACTION: Notice of Proposed Settlement.

SUMMARY: The United States Environmental Protection Agency is proposing to enter into three administrative settlements with responsible parties for response costs pursuant to section 122 of the Comprehensive Environmental Response, Compensation, and Liability Act (CERCLA), 42 U.S.C. 9622(h)(1) concerning the B & H Transformer Superfund Site (Site) located in Yorkville, Gibson County, Tennessee. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA, Region 4 (WMD-CPSB), 61 Forsyth Street, SW, Atlanta, Georgia 30303, (404) 562-8887.

Written comments may be submitted to Ms. Batchelor within 30 calendar days of the date of this publication.

Dated: July 9, 2001.
Franklin E. Hill,
Chief, CERCLA Program Services Branch, Waste Management Division.

[FR Doc. 01-18888 Filed 7-27-01; 8:45 am]

BILLING CODE 6560-50-P